EXPORT-IMPORT BANK OF THE UNITED STATES

[Public Notice 2015-3012]

Agency Information Collection Activities: Final Collection; Comment Request; Form Title: EIB 09-01 Payment Default Report OMB 3048-0028

AGENCY: Export-Import Bank of the U.S.

ACTION: Submission for OMB review and comments request.

SUMMARY: The Export-Import Bank of the United States (Ex-Im Bank), as a part of its continuing effort to reduce paperwork and respondent burden, invites the general public and other Federal Agencies to comment on the proposed information collection, as required by the Paperwork Reduction Act of 1995. This collection allows insured/guaranteed parties and insurance brokers to report overdue payments from the borrower and/or guarantor. Ex-Im Bank customers will submit this form electronically through Ex-Im Online, replacing paper reporting. Ex-Im Bank has simplified reporting of payment defaults in this form by including checkboxes and providing for many fields to be self-populated. Ex-Im Bank provides insurance, loans, and guarantees for the financing of exports of goods and services.

The form can be viewed at: http://www.exim.gov/sites/default/files/tools/credit_admin/EIB-09-01.pdf.

DATES: Comments should be received on or before January 11, 2016 to be assured of consideration.

ADDRESSESES: Comments may be submitted electronically on WWW.REGULATIONS.GOV or by mail to Office of Information and Regulatory Affairs, 725 17th Street NW., Washington, DC 20038, Attn: OMB 3048-0028.

FOR FURTHER INFORMATION CONTACT: Stacy Lee, Export Import Bank, 811 Vermont Avenue NW., Washington, DC 20571.

SUPPLEMENTARY INFORMATION:

Titles and Form Number: EIB 09-01, Payment Default Report.

OMB Number: 3048-0028.

Type of Review: Regular.

Need and Use: The information requested enables insured/guaranteed parties and insurance brokers to report overdue payments from the borrower and/or guarantor.

Affected Public: Insured/guaranteed parties and brokers.

Annual Number of Respondents: 200.

Estimated Time per Respondent: 15 minutes.

Government Review Time: 50 hours.

Cost to the Government: $2,000.

Bonita Jones-McNeil,
Program Analyst, Agency Clearance Officer.

[FR Doc. 2015-31170 Filed 12-10-15; 8:45 am]

BILLING CODE 6690-01-P